DEPARTMENT OF COMMERCE

Census Bureau

Proposed Information Collection; Comment Request; Annual Capital Expenditures Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before September 19, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Valerie Mastalski, U.S. Census Bureau, Room HQ-8K041, Washington, DC 20233; (301) 763-3317 (or via the Internet at Valerie.Cherry.Mastalski@census.gov).

SUPPLEMENTARY INFORMATION:

I. Abstract

The U.S. Census Bureau plans to conduct the 2016 through 2018 Annual Capital Expenditures Survey (ACES). The annual survey collects data on fixed assets and depreciation, sales and receipts, capitalized computer software, and capital expenditures for new and used structures and equipment. The ACES is the sole source of detailed comprehensive statistics on actual business spending for non-farm companies, non-governmental companies, organizations, and associations operating in the United States. Both employer and nonemployer companies are included in the survey.

The Bureau of Economic Analysis, the primary Federal user of the ACES data, uses these data in refining and evaluating annual estimates of investment in structures and equipment in the national income and product accounts, compiling annual input-output tables, and computing gross domestic product by industry. The Federal Reserve Board uses these data to improve estimates of investment indicators for monetary policy. The Bureau of Labor Statistics uses these data to improve estimates of capital stocks for productivity analysis.

Industry analysts use these data for market analysis, economic forecasting, identifying business opportunities, product development, and business planning.

Planned changes from the previous ACES are the collection of capital expenditures data solely by electronic reporting, and the collection of capital expenditures by type of structure and type of equipment in the 2017 ACES only. Every five years, for years ending in “3” and “8”, detailed data by types of structures and types of equipment have been collected from companies with employees. In 2010, it was decided that this detailed data should be collected for years ending in “2” and “7” beginning in 2013, to align with the years in which the Economic Census is conducted.

II. Method of Collection

For the 2012 and prior ACES data collection; the Census Bureau used mail out/mail back survey forms to collect data. For the 2013 ACES, the Census Bureau collected data from employer companies primarily through electronic reporting and continued to use mail out/mail back survey forms to collect data from nonemployer companies. Beginning with the 2014 ACES, the Census Bureau collected data from both employer and nonemployer companies primarily through electronic reporting. Companies were asked to respond to the survey within 30 days of the initial mailing. Letters and/or telephone calls encouraging participation were directed to companies that had not responded by the designated time.

The Census Bureau will continue collecting the ACES data from employer and nonemployer companies solely through electronic reporting. Employer companies will complete the ACE-1 electronic reporting instrument. Nonemployers will complete the ACE-2 electronic reporting instrument. All companies will receive a notification letter containing their User ID and password, and will be directed to report online through the Census Bureau's Business Help Site. The online reporting instruments are an electronic version of the paper data collection instruments, which will no longer be used and are tailored to the company's diversity of operations and number of industries with payroll.

The Census Bureau will continue to ask both companies with employees and nonemployer companies to respond to the survey within 30 days. Reminder letters and/or telephone calls encouraging participation will continue to be directed to all companies that have not responded by the designated time.

III. Data

OMB Control Number: 0607-0782.

Form Number: ACE-1 and ACE-2.

Type of Review: Regular submission.

Affected Public: Businesses or other for-profit organizations, non-profit institutions.

Estimated Number of Respondents: Approximately 75,000 (45,000 employer companies, and 30,000 nonemployer businesses).

Estimated Time Per Response: The average for all respondents is 1.96 hours. For employer companies completing form ACE-1, the range is 2 to 16 hours, averaging 2.59 hours. For companies completing form ACE-2, the range is less than 1 hour to 2 hours, averaging 1 hour.

Estimated Total Annual Burden Hours: 146,570 hours.

Estimated Total Annual Cost: $0.

Respondents' Obligation: Mandatory.

Legal Authority: Title 13 United States Code, Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 14, 2016.
Glenna Mickelson,
Management Analyst, Office of the Chief Information Officer.

[FR Doc. 2016-17077 Filed 7-19-16; 8:45 am]

BILLING CODE 3510-07-P